GENERAL SERVICES ADMINISTRATION

41 CFR Parts 301-51, 301-52, 301-54, 301-70, 301-71 and 301-76

[FTR Amendment 92]

RIN 3090-AH24

Federal Travel Regulation; Mandatory Use of the Travel Charge Card

AGENCY: Office of Governmentwide Policy, GSA.

ACTION: Final rule.

SUMMARY: This final rule amends Federal Travel Regulation (FTR) Amendment 90 published in the Federal Register on Wednesday, January 19, 2000 (65 FR 3054) concerning payment by the Government of expenses connected with official Government travel. This final rule further implements the requirements of Public Law 105-264.

DATES: This final rule is effective April 21, 2000, and applies to payment of expenses in connection with official Government travel performed on or after May 1, 2000.

FOR FURTHER INFORMATION CONTACT: Jim Harte, Office of Governmentwide Policy, Travel and Transportation Management Policy Division, at (202) 501-1538.

SUPPLEMENTARY INFORMATION:

A. Background

Pursuant to Public Law 105-264, subsection 2(a), the Administrator of General Services is required to issue regulations requiring Federal employees to use the travel charge card established pursuant to the United States Travel and Transportation Payment and Expense Control System, or any Federal contractor-issued travel charge card, for all payments of expenses of official Government travel. Additionally, Public Law 105-264 requires the Administrator of General Services to issue regulations on reimbursement of travel expenses and collection of delinquent amounts upon written request of a Federal contractor.

The General Services Administration (GSA), after an analysis of additional data, has:

(1) Determined that certain relocation expenses (excluding en route travel and househunting expenses) are not technically “travel” expenses and, therefore, are not covered under the provisions of the statute.

(2) Established the date of May 1, 2002, for agencies to reach a seven-calendar day limit for reviewing travel claims.

(3) Permitted an agency to either calculate late payment fees using the Prompt Payment Act Interest Rate or a flat amount based on an agency average of travel claims, but not less than the prompt payment amount.

(4) Deleted health insurance from consideration as disposable pay.

B. Regulatory Flexibility Act

This final rule is not required to be published in the Federal Register for notice and comment; therefore, the Regulatory Flexibility Act does not apply.

C. Executive Order 12866

GSA has determined that this final rule is not a significant regulatory action for the purposes of Executive Order 12866 of September 30, 1993.

D. Paperwork Reduction Act

The Paperwork Reduction Act does not apply because this final rule does not impose recordkeeping or information collection requirements, or the collection of information from offerors, contractors, or members of the public which require the approval of the Office of Management and Budget (OMB) under 44 U.S.C. 501 et seq.

E. Small Business Regulatory Enforcement Fairness Act

This final rule is also exempt from congressional review prescribed under 5 U.S.C. 801 since it relates solely to agency management and personnel.

List of Subjects in 41 CFR Parts 301-51, 301-52, 301-54, 301-70, 301-71, and 301-76

Government employees, Travel and transportation expenses.

For the reasons set forth in the preamble, 41 CFR Chapter 301 is amended as follows:

PART 301-51—PAYING TRAVEL EXPENSES

1. The authority citation for 41 CFR part 301-51 continues to read as follows:

Authority: 5 U.S.C. 5707. Subpart A is issued under the authority of Sec. 2, Pub. L. 105-264, 112 Stat. 2350 (5 U.S.C. 5701 note); 40 U.S.C. 486(c).

2. Section 301-51.2 is amended by adding paragraph (l) to read as follows:

§ 301-51.2 What official travel expenses and/or classes of employees are exempt from the mandatory use of the Government contractor-issued travel charge card?

* * * * *

(l) Relocation allowances prescribed in chapter 302 of this title, except en-route travel and househunting trip expenses.

PART 301-52—CLAIMING REIMBURSEMENT

3. The authority citation for 41 CFR part 301-52 continues to read as follows:

Authority: 5 U.S.C. 5707; 40 U.S.C. 486(c); Sec. 2, Pub. L. 105-264, 112 Stat. 2350 (5 U.S.C. 5701 note).

4. Sections 301-52.17 and 301-52.18 are revised to read as follows:

§ 301-52.17 Within how many calendar days after I submit a proper travel claim must my agency reimburse my allowable expenses?

Your agency must reimburse you within 30 calendar days after you submit a proper travel claim to your agency's designated approving office. Your agency must ensure that it uses a satisfactory recordkeeping system to track submission of travel claims. For example, travel claims submitted by mail, in accordance with your agency's policy, could be annotated with the time and date of receipt by your agency. Your agency could consider travel claims electronically submitted to the designated approving office as submitted on the date indicated on an e-mail log, or on the next business day if submitted after normal working hours. However, claims for the following relocation allowances are exempt from this provision:

(a) Transportation and storage of household goods and professional books, papers and equipment;

(b) Transportation of mobile home;

(c) Transportation of a privately owned vehicle;

(d) Temporary quarters subsistence expense, when not paid as lump sum;

(e) Residence transaction expenses;

(f) Relocation income tax allowance;

(g) Use of a relocation services company;

(h) Home marketing incentive payments; and

(i) Allowance for property management services.

§ 301-52.18 Within how many calendar days after I submit a travel claim must my agency notify me of any error that would prevent payment within 30 calendar days after submission?

Your agency must notify you as soon as practicable after you submit your travel claim of any error that would prevent payment within 30 calendar days after submission and must provide the reason(s) why your travel claim is not proper. However, not later than May 1, 2002, agencies must achieve a maximum time period of seven working days for notifying you that your travel claim is not proper.

5. Section 301-52.20 is revised to read as follows:

§ 301-52.20 How are late payment fees calculated?

Your agency must either:

(a) Calculate late payment fees using the prevailing Prompt Payment Act Interest Rate beginning on the 31st day after submission of a proper travel claim and ending on the date on which payment is made; or

(b) Reimburse you a flat fee of not less than the prompt payment amount, based on an agencywide average of travel claim payments; and

(c) In addition to the fee required by paragraphs (a) and (b) of this section, your agency must also pay you an amount equivalent to any late payment charge that the card contractor would have been able to charge you had you not paid the bill.

PART 301-54—COLLECTION OF UNDISPUTED DELINQUENT AMOUNTS OWED TO THE CONTRACTOR ISSUING THE INDIVIDUALLY BILLED TRAVEL CHARGE CARD

6. The authority citation for 41 CFR part 301-54 continues to read as follows:

Authority: 5 U.S.C. 5707; 40 U.S.C. 486(c); Sec. 2, Pub. L. 105-264, 112 Stat. 2350 (5 U.S.C. 5701 note).

7. Section 301-54.2 is revised to read as follows:

§ 301-54.2 What is disposable pay?

Disposable pay is your compensation remaining after the deduction from your earnings of any amounts required by law to be withheld. These deductions do not include discretionary deductions such as savings bonds, charitable contributions, etc. Deductions may be made from any type of pay you receive from your agency, e.g., basic pay, special pay, retirement pay, or incentive pay.

PART 301-70—INTERNAL POLICY AND PROCEDURE REQUIREMENTS

8. The authority citation for 41 CFR part 301-70 continues to read as follows:

Authority: 5 U.S.C. 5707; 40 U.S.C. 486(c); Sec. 2, Pub. L. 105-264, 112 Stat. 2350 (5 U.S.C. 5701 note).

9. Section 301-70.704 is amended by adding a note at the end of the section to read as follows:

§ 301-70.704 What expenses and/or classes of employees are exempt from the mandatory use of the Government contractor-issued travel charge card?

* * * * *

Note to § 301-70.704: Relocation allowances prescribed in chapter 302 of this title, except en-route travel and househunting trip expenses are not covered by this requirement.

PART 301-71—AGENCY TRAVEL ACCOUNTABILITY REQUIREMENTS

10. The authority citation for 41 CFR part 301-71 continues to read as follows:

Authority: 5 U.S.C. 5707; 40 U.S.C. 486(c); Sec. 2, Pub. L. 105-264, 112 Stat. 2350 (5 U.S.C. 5701 note).

11. Section 301-71.204 is revised to read as follows:

§ 301-71.204 Within how many calendar days after the submission of a proper travel claim must we reimburse the employee's allowable expenses?

You must reimburse the employee within 30 calendar days after the employee submits a proper travel claim to the agency's designated approving office. You must use a satisfactory recordkeeping system to track submission of travel claims. For example, travel claims submitted by mail, in accordance with agency policy, could be annotated with the time and date of receipt by the agency. You could consider travel claims electronically submitted to the designated approving office as submitted on the date indicated on an e-mail log, or on the next business day if submitted after normal working hours. However, claims for the following relocation allowances are exempt from this provision:

(a) Transportation and storage of household goods and professional books, papers and equipment;

(b) Transportation of mobile home;

(c) Transportation of a privately owned vehicle;

(d) Temporary quarters subsistence expense, when not paid as lump sum;

(e) Residence transaction expenses;

(f) Relocation income tax allowance;

(g) Use of a relocation services company;

(h) Home marketing incentive payments; and

(i) Allowance for property management services.

12. Section 301-71.208 is revised to read as follows:

§ 301-71.208 Within how many calendar days after submission of a proper travel claim must we notify the employee of any errors in the claim?

You must notify the employee as soon as practicable after the employee's submission of the travel claim of any error that would prevent payment within 30 calendar days after submission and provide the reason(s) why the claim is not proper. However, not later than May 1, 2002, you must achieve a maximum time period of seven working days for notifying an employee that his/her travel claim is not proper.

13. Section 301-71.210 is revised to read as follows:

§ 301-71.210 How do we calculate late payment fees?

Late payment fees are calculated either by:

(a) Using the prevailing Prompt Payment Act Interest Rate beginning on the 31st day after submission of a proper travel claim and ending on the date on which payment is made; or

(b) A flat fee, of not less than the prompt payment amount, based on an agencywide average of travel claim payments; and

(c) In addition to the fee required by paragraphs (a) and (b) of this section, you must also pay an amount equivalent to any late payment charge that the card contractor would have been able to charge had the employee not paid the bill. Payment of this additional fee will be based upon the effective date that a late payment charge would be allowed under the agreement between the employee and the card contractor.

PART 301-76—COLLECTION OF UNDISPUTED DELINQUENT AMOUNTS OWED TO THE CONTRACTOR ISSUING THE INDIVIDUALLY BILLED TRAVEL CHARGE CARD

14. The authority citation for 41 CFR part 301-76 continues to read as follows:

Authority: 5 U.S.C. 5707; 40 U.S.C. 486(c); Sec. 2, Pub. L. 105-264, 112 Stat. 2350 (5 U.S.C. 5701 note).

15. Section 301-76.2 is revised to read as follows:

§ 301-76.2 What is disposable pay?

Disposable pay is the part of the employee's compensation remaining after the deduction of any amounts required by law to be withheld. These deductions do not include discretionary deductions such as savings bonds, charitable contributions, etc. Deductions may be made from any type of pay, e.g., basic pay, special pay, retirement pay, or incentive pay.

Dated: April 13, 2000.
David J. Barram,
Administrator of General Services.

[FR Doc. 00-9774 Filed 4-20-00; 8:45 am]

BILLING CODE 6820-34-P